ENVIRONMENTAL PROTECTION AGENCY

[EPA-HQ-OW-2003--0064, FRL-9113-9; EPA ICR 1287.10, OMB Control Number 2040-0101]

Agency Information Collection Activity; Proposed Collection; Comment Request; Information Collection Request for Application for Sustainable Water Leadership Program

AGENCY: Environmental Protection Agency (EPA).

ACTION: Notice.

SUMMARY: In compliance with the Paperwork Reduction Act (PRA) (44 U.S.C. 3501 et seq.), this document announces that EPA is planning to submit a request to update an existing approved Information Collection Request (ICR) to the Office of Management and Budget (OMB). Before submitting the ICR to OMB for review and approval, EPA is soliciting comments on specific aspects of the proposed information collection as described below.

DATES: Comments must be submitted on or before April 20, 2010.

ADDRESSES: Submit your comments, referencing docket ID number EPA-HQ-OW-2003-0064, by one of the following methods:

• http://www.regulations.gov: Follow the online instructions for submitting comments.

• E-mail: ow-docket@epa.gov (Identify Docket ID number EPA-HQ-OW-2003-0064, in the subject line)

• Mail: Water Docket, Environmental Protection Agency, Mailcode: 4203M, 1200 Pennsylvania Ave., NW., Washington, DC 20460. Please include a total of three copies.

• Hand Delivery: EPA Docket Center, EPA West, Room 3334, 1301 Constitution Avenue, NW., Washington, DC. Such deliveries are only accepted during the Docket's normal hours of operation, and special arrangements should be made for deliveries of boxed information.

Instructions: Direct your comments identified by the Docket ID number EPA-HQ-OW-2003-0064. EPA's policy is that all comments received will be included in the public docket without change and may be made available online at www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

FOR FURTHER INFORMATION CONTACT: Gregory Gwaltney, Municipal Support Division, Office of Wastewater Management, OWM Mail Code: 4204M, Environmental Protection Agency, Room 7111—EPA East, 1200 Pennsylvania Ave., NW., Washington, DC 20460; telephone number: (202) 564-2340; e-mail address: gwaltney.gregory@epa.gov.

SUPPLEMENTARY INFORMATION:

How Can I Access the Docket and/or Submit Comments?

EPA has established a public docket for the ICR identified in this document (ID number EPA-HQ-OW-2003-0064), which is available for online viewing at http://www.regulations.gov, or in person viewing at the Water Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Water Docket is 202- 566-2426.

Use http://www.regulations.gov to obtain a copy of the draft collection of information, submit or view public comments, access the index listing of the contents of the docket, and to access those documents in the public docket that are available electronically. Once in the system, select “search,” then key in the docket ID number identified in this document.

What Information Is EPA Particularly Interested In?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of technical information/data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply To?

Affected entities: Entities potentially affected by this action are publicly or privately owned wastewater treatment plants or systems, community drinking water plants or systems, managed decentralized systems (public or private), municipally-owned stormwater systems, and municipalities.

Title: Application for Sustainable Water Leadership Program (formerly named the Annual National Clean Water Act Recognition Awards Program).

ICR numbers: EPA ICR No. 1287.10 OMB Control No. 2040-0101.

ICR status: This ICR is currently scheduled to expire on February 28, 2011. An Agency may not conduct or sponsor, and a person is not required to respond to, a collection of information, unless it displays a currently valid OMB control number. The OMB control numbers for EPA's regulations in title 40 of the CFR, after appearing in the Federal Register when approved, are listed in 40 CFR Part 9, and displayed either by publication in the Federal Register or by other appropriate means, such as on the related collection instrument or form, if applicable. The display of OMB control numbers in certain EPA regulations is consolidated in 40 CFR Part 9.

Abstract: This notice requests approval for modifications to the application used to collect data for EPA's National Clean Water Act Recognition Awards Program. The voluntary Program has been updated to reflect new industry practices consistent with EPA's sustainable infrastructure initiatives and is now called the Sustainable Water Leadership Program. The Sustainable Water Leadership Program maintains elements from the previous Clean Water Act Recognition Awards Program, namely, excellence in operations and maintenance, biosolids, combined sewer overflows, pretreatment, and storm water management, and also expands eligibility to community drinking water utilities and systems, as well as managed decentralized treatment systems (public or private). As described below, the development of the Sustainable Water Leadership Program is the latest evolution in EPA's commitment to recognize and award outstanding and innovative utility management practices.

In 1985, EPA established the Operations and Maintenance (O&M) awards program to provide a positive incentive for compliance with the National Pollutant Discharge Elimination System (NPDES). Because of the successes of the O&M Awards program, in 1988 EPA amended the Clean Water Act Recognition Awards Program to include the Beneficial Biosolids Use awards (formerly Sludge awards). In 1989, the Pretreatment awards were added. In 1990, EPA established the Combined Sewer Overflow (CSO) and Storm Water (SW) Management awards programs which were also added to the Clean Water Act Recognition Awards Program.

The Sustainable Water Leadership Program consists of two components: (1) A recognition program that recognizes applicants that are moving toward sustainable operations and meet specified criteria identified in the application, and (2) A competitive awards program to showcase the “best of the best” in a specific topic area selected in advance by EPA. Today's notice and request focuses on the recognition component, the awards component is still under development. An update to this ICR will be provided following finalization of the awards component. The recognition component requires that an applicant meet criteria under specific categories. One category is mandatory for all applicants, Effective Utility Management, and is based on the Attributes of Effectively Managed Systems that EPA and the water sector have endorsed. In addition, applicants are asked to describe activities in other areas of their choice including: biosolids, pretreatment, decentralized systems, energy management, water efficiency, climate change adaptation and or mitigation, and watershed approaches, including source water protection and storm water.

The updated application addresses the recognition component of the Sustainable Water Leadership Program and provides the mechanism for the applicants to demonstrate how they meet the required criteria.

This notice also requests approval to consolidate the pretreatment component of the recognition awards program into this ICR. Currently, the Pretreatment awards program is covered by ICR (OMB Control No. 2040-0009, EPA ICR No. 0002.14), approved through December 31, 2011. A framework to implement the awards recognition program is at 40 CFR part 105.

The respondent will read the instructions for completing the recognition application for the Sustainable Water Leadership Program. The respondent will use existing files, planning and progress reports, and institutional memory to complete the application. Based on the instructions provided with the application, the respondent will compile the requested information. The requested design and operating information should be readily available from wastewater/drinking water/storm water treatment facility, or pollution abatement program operating records. The data collection may include flow, permit, operating and environmental data.

The information collection will be used by the Office of Water, Office of Wastewater Management, to evaluate and determine if required criteria are met for recognition. Based on the collection, national panels will evaluate the applicant's efforts and recommend finalists. Recognized entities will receive a letter and certificate signed by the EPA Administrator or Assistant Administrator for Water, their utility name on EPA and outside organization Web sites, and announcements of their recognition at national conferences. EPA Regions may also opt to hold Regional ceremonies.

Burden Statement: The total number of respondents for the recognition program is estimated to be 2,036 (includes 530 respondents in Year 1 of the Program and 1,507 in Year 3) with a total annual average of 679. The responses are collected every other year. The respondents reporting burden of 20 person hours per response is estimated to be 40,723 hours and a cost of $1.8 million. Total estimated annual burden for this collection is 13,574 hours and $614,919 (all labor cost). For additional details on the estimated burden, please see docket ID number EPA-HQ-OW-2003-0064. Burden means the total time, effort, or financial resources expended by persons to generate, maintain, or disclose or provide information to or for a Federal agency. This includes the time needed to review instructions; develop, acquire, install, and use technology and systems for the purposes of collecting, validating, and verifying information, processing and maintaining information, and disclosing and providing information; adjust the existing ways to comply with any previously applicable instructions and requirements; train personnel to be able to respond to a collection of information; search data sources; complete and review the collection of information; and transmit or otherwise disclose information. The ICR provides a detailed explanation of the Agency's estimate, which is only briefly summarized here:

Estimated total number of potential respondents: 679.

Frequency of response: Biennial

Estimated total average number of responses for each respondent: 1.

Estimated total annual burden hours: 13,574 hours.

Estimated total annual costs: $614,919. This includes an estimated burden cost of $614,919 and an estimated cost of $0 for capital investment or maintenance and operational costs.

Changes in the Estimates: There is an increase of 12,414 hours in the total estimated respondent burden compared with that identified in the ICR currently approved by OMB. This change is primarily the result of (1) changes and adjustments in the number and types of applicants eligible for recognition under the Sustainable Water Leadership Program. The new Sustainable Water Leadership Program expands the universe of eligible entities to include community drinking water utilities and systems, as well as managed decentralized treatment systems (public or private). (2) EPA updated the estimated time spent by respondents to complete the revised Recognition Application for Sustainable Water Leadership Program to 20 hours per respondent. (3) The ICR now includes the applicant respondent burden consolidated from the Pretreatment ICR (OMB Control No. 2040-0009, EPA ICR No. 0002.14), which was previous included in only the Pretreatment ICR and not this ICR.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: February 4, 2010.
James A. Hanlon,
Director, Office of Wastewater Management.

[FR Doc. 2010-3254 Filed 2-18-10; 8:45 am]

BILLING CODE 6560-50-P